DEPARTMENT OF TRANSPORTATION

Federal Motor Carrier Safety Administration

[Docket No. FMCSA-2010-0328; FMCSA-2012-0282; FMCSA-2012-0283; FMCSA-2014-0308; FMCSA-2014-0309; FMCSA-2016-0225; FMCSA-2016-0379]

Qualification of Drivers; Exemption Applications; Diabetes

AGENCY: Federal Motor Carrier Safety Administration (FMCSA), DOT.

ACTION: Notice of renewal of exemptions; request for comments.

SUMMARY: FMCSA announces its decision to renew exemptions for 145 individuals from its prohibition in the Federal Motor Carrier Safety Regulations (FMCSRs) against persons with insulin-treated diabetes mellitus (ITDM) from operating commercial motor vehicles (CMVs) in interstate commerce. The exemptions enable these individuals with ITDM to continue to operate CMVs in interstate commerce.

DATES: Each group of renewed exemptions were applicable on the dates stated in the discussions below and will expire on the dates stated in the discussions below. Comments must be received on or before November 26, 2018.

ADDRESSES: You may submit comments identified by the Federal Docket Management System (FDMS) Docket No. FMCSA-2010-0328; FMCSA-2012-0282; FMCSA-2012-0283; FMCSA-2014-0308; FMCSA-2014-0309; FMCSA-2016-0225; FMCSA-2016-0379 using any of the following methods:

• Federal eRulemaking Portal: Go to http://www.regulations.gov. Follow the online instructions for submitting comments.

• Mail: Docket Management Facility; U.S. Department of Transportation, 1200 New Jersey Avenue SE, West Building Ground Floor, Room W12-140, Washington, DC 20590-0001.

• Hand Delivery: West Building Ground Floor, Room W12-140, 1200 New Jersey Avenue SE, Washington, DC, between 9 a.m. and 5 p.m., ET, Monday through Friday, except Federal Holidays.

• Fax: 1-202-493-2251.

To avoid duplication, please use only one of these four methods. See the “Public Participation” portion of the SUPPLEMENTARY INFORMATION section for instructions on submitting comments.

FOR FURTHER INFORMATION CONTACT: Ms. Christine A. Hydock, Chief, Medical Programs Division, 202-366-4001, fmcsamedical@dot.gov, FMCSA, Department of Transportation, 1200 New Jersey Avenue SE, Room W64-224, Washington, DC 20590-0001. Office hours are from 8:30 a.m. to 5:30 p.m., ET, Monday through Friday, except Federal holidays. If you have questions regarding viewing or submitting material to the docket, contact Docket Services, telephone (202) 366-9826.

SUPPLEMENTARY INFORMATION:

I. Public Participation

A. Submitting Comments

If you submit a comment, please include the docket number for this notice (Docket No. FMCSA-2010-0328; FMCSA-2012-0282; FMCSA-2012-0283; FMCSA-2014-0308; FMCSA-2014-0309; FMCSA-2016-0225; FMCSA-2016-0379), indicate the specific section of this document to which each comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to http://www.regulations.gov, put the docket number, FMCSA-2010-0328; FMCSA-2012-0282; FMCSA-2012-0283; FMCSA-2014-0308; FMCSA-2014-0309; FMCSA-2016-0225; FMCSA-2016-0379, in the keyword box, and click “Search.” When the new screen appears, click on the “Comment Now!” button and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

B. Viewing Documents and Comments

To view comments, as well as any documents mentioned in this notice as being available in the docket, go to http://www.regulations.gov. Insert the docket number, FMCSA-2010-0328; FMCSA-2012-0282; FMCSA-2012-0283; FMCSA-2014-0308; FMCSA-2014-0309; FMCSA-2016-0225; FMCSA-2016-0379, in the keyword box, and click “Search.” Next, click the “Open Docket Folder” button and choose the document to review. If you do not have access to the internet, you may view the docket online by visiting the Docket Management Facility in Room W12-140 on the Ground Floor of the DOT West Building, 1200 New Jersey Avenue SE, Washington, DC 20590, between 9 a.m. and 5 p.m., ET, Monday through Friday, except Federal holidays.

C. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

Under 49 U.S.C. 31136(e) and 31315, FMCSA may grant an exemption for five years if it finds “such exemption would likely achieve a level of safety that is equivalent to or greater than the level that would be achieved absent such exemption.” The statute also allows the Agency to renew exemptions at the end of the five-year period. FMCSA grants exemptions from the FMCSRs for a two-year period to align with the maximum duration of a driver's medical certification.

The physical qualification standard for drivers regarding diabetes found in 49 CFR 391.41(b)(3) states that a person is physically qualified to drive a CMV if that person has no established medical history or clinical diagnosis of diabetes mellitus currently requiring insulin for control [“diabetes standard”].

The 145 individuals listed in this notice have requested renewal of their exemptions from the diabetes standard in 49 CFR 391.41(b)(3), in accordance with FMCSA procedures. Accordingly, FMCSA has evaluated these applications for renewal on their merits and decided to extend each exemption for a renewable two-year period.

III. Request for Comments

Interested parties or organizations possessing information that would otherwise show that any, or all, of these drivers are not currently achieving the statutory level of safety should immediately notify FMCSA. The Agency will evaluate any adverse evidence submitted and, if safety is being compromised or if continuation of the exemption would not be consistent with the goals and objectives of 49 U.S.C. 31136(e) and 31315, FMCSA will take immediate steps to revoke the exemption of a driver.

IV. Basis for Renewing Exemptions

Under 49 U.S.C. 31315(b)(1), an exemption may be granted for no longer than five years from its approval date and may be renewed upon application. FMCSA grants exemptions from the diabetes standard for a two-year period to align with the maximum duration of a driver's medical certification. In accordance with 49 U.S.C. 31136(e) and 31315, each of the 145 applicants has satisfied the renewal conditions for obtaining an exemption from the diabetes standard (see 75 FR 63536; 75 FR 77952; 77 FR 63411; 77 FR 64181; 77 FR 75492; 77 FR 75493; 79 FR 66451; 79 FR 70920; 80 FR 2479; 80 FR 5613; 81 FR 84677; 81 FR 85312; 81 FR 92941; 82 FR 12880; 82 FR 12890). They have maintained their required medical monitoring and have not exhibited any medical issues that would compromise their ability to safely operate a CMV during the previous two-year exemption period. These factors provide an adequate basis for predicting each driver's ability to continue to drive safely in interstate commerce. Therefore, FMCSA concludes that extending the exemption for each of these drivers for a period of two years is likely to achieve a level of safety equal to that existing without the exemption.

In accordance with 49 U.S.C. 31136(e) and 31315, the following groups of drivers received renewed exemptions in the month of December and are discussed below:

As of December 9, 2018, and in accordance with 49 U.S.C. 31136(e) and 31315, the following 26 individuals have satisfied the renewal conditions for obtaining an exemption from the rule prohibiting drivers with ITDM from driving CMVs in interstate commerce (79 FR 66451; 80 FR 2479; 81 FR 92941):

Travis L. Beck (OH)

Corey C. Bennett (MS)

Nicholas J. Borelli (NJ)

Elvis P. Butler (TN)

John H. Butler (OH)

Michael E. Calvert (TX)

Kevin E. Conti (OH)

Marsh L. Daggett (TX)

Lorenza K. Jefferson (VA)

William O. Johnson, Jr. (IN)

Michael E. Kroll (WI)

Isolina Matos (NJ)

Rex D. McManaway, Sr. (IL)

Steven A. Metternick (MI)

Daniel P. Miller (PA)

Raymond E. Pawloski (MI)

Loren A. Pingel (CO)

Terrence A. Proctor (MD)

Heber E. Rodriguez (VA)

Maurice S. Styles (MN)

Richard J. Thomas (IN)

Kevin E. Tucker (WV)

Robert Vassallo (NY)

Clifford L. White (KS)

Jason L. Woody (KS)

Wesley B. Yokum (PA)

The drivers were included in docket number FMCSA-2014-0308. Their exemptions are applicable as of December 9, 2018, and will expire on December 9, 2020.

As of December 14, 2018, and in accordance with 49 U.S.C. 31136(e) and 31315, the following nine individuals have satisfied the renewal conditions for obtaining an exemption from the rule prohibiting drivers with ITDM from driving CMVs in interstate commerce (75 FR 63536; 75 FR 77952; 81 FR 92941):

William V. Barbrie (RI)

John P. Catalano (NJ)

Gary J. Dionne (ID)

Thomas C. Donahue (MA)

Robert Minacapelli (NY)

Joe E. Radabaugh (OH)

Ben D. Shelton, Jr. (IL)

Nestor P. Vargas, Jr. (WA)

Harold A. Wendt (MN)

The drivers were included in docket number FMCSA-2010-0328. Their exemptions are applicable as of December 14, 2018, and will expire on December 14, 2020.

As of December 20, 2018, and in accordance with 49 U.S.C. 31136(e) and 31315, the following 15 individuals have satisfied the renewal conditions for obtaining an exemption from the rule prohibiting drivers with ITDM from driving CMVs in interstate commerce (77 FR 63411; 77 FR 64181; 77 FR 75492; 77 FR 75493; 81 FR 92941):

James D. Astle (OH)

Robert E. Carroll (FL)

Thomas L. Gilmore (IA)

Kenneth M. Hansen (IA)

David J. Heppelmann (MN)

Dennis R. Johnson (TN)

Ronald D. Johnston (VA)

Steven M. Knezevich (MI)

Carl E. McCartney (PA)

Fred Nelson, Jr. (PA)

Ricky L. Osterback (WA)

Joseph M. Polkowski, Sr. (PA)

Dan R. Stark (MN)

Mark A. Welch, Jr. (PA)

Bailey G. Zickefoose, Jr. (WV)

The drivers were included in docket numbers FMCSA-2012-0282; FMCSA-2012-0283. Their exemptions are applicable as of December 20, 2018, and will expire on December 20, 2020.

As of December 24, 2018, and in accordance with 49 U.S.C. 31136(e) and 31315, the following 32 individuals have satisfied the renewal conditions for obtaining an exemption from the rule prohibiting drivers with ITDM from driving CMVs in interstate commerce (81 FR 84677; 82 FR 12890):

Rickey C. Alvis (NC)

Bennie L. Baker (TX)

Darious A. Ballou (NC)

Salauddin Baset (TX)

Ralph G. Caffee (PA)

David L. Cheshire (MI)

Allan S. Clugston (NY)

Jimmy D. Curtis (TX)

Larry D. Dearth (WI)

Keith M. Dickerson (WI)

James J. Dorio (PA)

Virgil J. Erhardt (IA)

Jimmy J. Fanelli (OR)

William L. Garrity (CT)

Robin D. Gibson (DC)

Steven W. Harry (OR)

Jay M. Hill (CO)

Paul J. Horne (NY)

John E. Kerby (NE)

Adam R. Kleist (OR)

Jacob A. Knezevich (NM)

Joel A. Kroll (SD)

Edwin J. Lundquist (MN)

Stephen C. Mickle (AL)

Tyler J. Oakland (NE)

Martin J. Reding (OR)

Daniel A. Rivera (FL)

Gerald J. Rosauer (WI)

Chester G. Selfridge (PA)

Paul A. Sheehan (PA)

Michael W. Sutton (WA)

Noah E. Thompson (AL)

The drivers were included in docket number FMCSA-2016-0225. Their exemptions are applicable as of December 24, 2018, and will expire on December 24, 2020.

As of December 28, 2018, and in accordance with 49 U.S.C. 31136(e) and 31315, the following 26 individuals have satisfied the renewal conditions for obtaining an exemption from the rule prohibiting drivers with ITDM from driving CMVs in interstate commerce (81 FR 85312; 82 FR 12880):

Mitchell G. Aucoin (NH)

Nelson T. Barninger (PA)

Thomas J. Bonura (TX)

Todd M. Boughter (PA)

Bradley J. Brown (OH)

Alex Caterson (PA)

Kimberly J. Davis (CT)

Earl C. Duke (VA)

David A. Evans (PA)

Robert H. Haines (PA)

Anthony L. Hamilton (TX)

Donovan K. Helton (VA)

Ricky W. Knudsen (MN)

Brandon S. Koehn (KS)

Stephen B. Macisaac (NY)

Corey M. McCormack (CA)

Melvin W. Miller (MI)

Anthony H. Patrick (KY)

Danny L. Peterson (WI)

Robert L. Rich, Jr. (MN)

Eugene P. Roever (AR)

Jim W. Royer (MN)

David E. Schoch (NJ)

Joshua D. Taylor (MO)

Clyde L. Weaver (NC)

Jason A. Weiss (IL)

The drivers were included in docket number FMCSA-2016-0379. Their exemptions are applicable as of December 28, 2018, and will expire on December 28, 2020.

As of December 29, 2018, and in accordance with 49 U.S.C. 31136(e) and 31315, the following 37 individuals have satisfied the renewal conditions for obtaining an exemption from the rule prohibiting drivers with ITDM from driving CMVs in interstate commerce (79 FR 70920; 80 FR 5613; 81 FR 92941):

Andrew P. Bivens (TN)

Everett D. Blevins (KY)

Kirk J. Brummeler (GA)

Travis M. Bryan (MA)

John W. Condy (NY)

Kevin V. Cook (MO)

Guido Criscuolo, Jr. (CT)

Zachary L. Diehl (IL)

Andrea I. Dirksen (IA)

Clarice L. Dunklin (LA)

Ricky L. Exler (FL)

Paul B. Fuerstenberg (WI)

Nathan M. Gallant (TX)

Louis A. Goodenough (IN)

Tyler L. Gravatt (ID)

Gary W. Honaker (VA)

Rex L. Kreutzer (NE)

Larry D. Lloyd (OR)

Dennis D. Markowski (WA)

William F. Melchert-Dinkel (MN)

Brit K. Miller (SD)

Charles B. Petersen (ID)

Anthony J. Politan (IN)

Emil T. Ricci (PA)

Arturo Robles (WY)

Robert F. Rothbauer (WI)

Michael A. Runyan, Jr. (NC)

John D. Sheets (NH)

Kyle L. Shuman (NY)

Gregory A. Smith (GA)

William S. Spaeth (WI)

Eloy G. Tijerina (TX)

Santos R. Torres (TX)

Leroy A. Traudt (NE)

Gerald S. Volpone, Jr. (MA)

Galen R. Watts (TX)

John E. Wildenmann (KY)

The drivers were included in docket number FMCSA-2014-0309. Their exemptions are applicable as of December 29, 2018, and will expire on December 29, 2020.

V. Conditions and Requirements

The exemptions are extended subject to the following conditions: (1) Each driver must submit a quarterly monitoring checklist completed by the treating endocrinologist as well as an annual checklist with a comprehensive medical evaluation; (2) each driver must report within two business days of occurrence, all episodes of severe hypoglycemia, significant complications, or inability to manage diabetes; also, any involvement in an accident or any other adverse event in a CMV or personal vehicle, whether or not it is related to an episode of hypoglycemia; (3) each driver must submit an annual ophthalmologist's or optometrist's report; and (4) each driver must provide a copy of the annual medical certification to the employer for retention in the driver's qualification file, or keep a copy in his/her driver's qualification file if he/she is self-employed. The driver must also have a copy of the exemption when driving, for presentation to a duly authorized Federal, State, or local enforcement official. The exemption will be rescinded if: (1) The person fails to comply with the terms and conditions of the exemption; (2) the exemption has resulted in a lower level of safety than was maintained before it was granted; or (3) continuation of the exemption would not be consistent with the goals and objectives of 49 U.S.C. 31136(e) and 31315.

VI. Preemption

During the period the exemption is in effect, no State shall enforce any law or regulation that conflicts with this exemption with respect to a person operating under the exemption.

VII. Conclusion

Based upon its evaluation of the 145 exemption applications, FMCSA renews the exemptions of the aforementioned drivers from the rule prohibiting drivers with ITDM from driving CMVs in interstate commerce. In accordance with 49 U.S.C. 31136(e) and 31315, each exemption will be valid for two years unless revoked earlier by FMCSA.

Issued on: October 17, 2018.
Larry W. Minor,
Associate Administrator for Policy.

[FR Doc. 2018-23330 Filed 10-24-18; 8:45 am]

BILLING CODE 4910-EX-P